DEPARTMENT OF HEALTH AND HUMAN SERVICES

Centers for Disease Control and Prevention

[60 Day-19-0978; Docket No. CDC-2018-0098]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Emerging Infections Program (EIP). The EIP is a population-based surveillance activity performed via active, laboratory case finding that is used for detecting, identifying, and monitoring emerging pathogens.

DATES: CDC must receive written comments on or before January 14, 2019.

ADDRESSES: You may submit comments, identified by Docket No. CDC-2018-0098 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (Regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Emerging Infections Program OMB# 0920-0978 Exp. Date: 05/31/2021—Revision—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases.

Activities of the EIPs fall into the following general categories: (1) Active surveillance; (2) applied public health epidemiologic and laboratory activities; (3) implementation and evaluation of pilot prevention/intervention projects; and (4) flexible response to public health emergencies. Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease.

A revision is being submitted to make existing collection instruments clearer and to add several new forms specifically surveying laboratory practices. These forms will allow the EIP to better detect, identify, track changes in laboratory testing methodology, gather information about laboratory utilization in the EIP catchment area to ensure that all cases are being captured, and survey EIP staff to evaluate program quality.

The total estimated burden is 40,601 hours. There is no cost to respondents other than their time.

Estimated Annualized Burden Hours
Type of respondent | Form name | Number of respondents | Number of responses per respondent | Avg. burden per response (in hours) | Total burden (in hours)
State Health Department | ABCs Case Report Form | 10 | 809 | 20/60 | 2697
| ABCs Invasive Pneumococcal Disease in Children Case Report Form | 10 | 22 | 10/60 | 37
| ABCs H.influenzae Neonatal Sepsis Expanded Surveillance Form | 10 | 6 | 10/60 | 10
| ABCs Severe GAS Infection Supplemental Form | 10 | 136 | 20/60 | 453
| ABCs Neonatal Infection Expanded Tracking Form | 10 | 37 | 20/60 | 123
| FoodNet Campylobacter | 10 | 942 | 21/60 | 3297
| FoodNet Cyclospora | 10 | 163 | 10/60 | 272
| FoodNet Listeria monocytogenes | 10 | 15 | 20/60 | 50
| FoodNet Salmonella | 10 | 789 | 21/60 | 2761
| FoodNet Shiga toxin producing E. coli | 10 | 205 | 20/60 | 683
| FoodNet Shigella | 10 | 213 | 10/60 | 355
| FoodNet Vibrio | 10 | 34 | 10/60 | 56
| FoodNet Yersinia | 10 | 48 | 10/60 | 80
| FoodNet Hemolytic Uremic Syndrome Case Report Form | 10 | 10 | 1 | 100
| FoodNet Clinical Laboratory Practices and Testing Volume—NEW | 10 | 70 | 20/60 | 233
| Influenza Hospitalization Surveillance Network Case Report Form | 10 | 1000 | 25/60 | 4167
| Influenza Hospitalization Surveillance Project Vaccination Phone Script Consent Form (English/Spanish) | 10 | 333 | 5/60 | 278
| Influenza Hospitalization Surveillance Project Vaccination Phone Script (English/Spanish) | 10 | 333 | 5/60 | 278
| Influenza Hospitalization Surveillance Project Provider Vaccination History Fax Form (Children/Adults) | 10 | 333 | 5/60 | 278
| FluSurv-NET Laboratory Survey—NEW | 10 | 23 | 10/60 | 38
| HAIC CDI Case Report Form | 10 | 1650 | 35/60 | 9625
| HAIC CDI Annual Laboratory Survey—NEW | 10 | 16 | 10/60 | 27
| HAIC CDI Annual Surveillance Officers Survey—NEW | 10 | 1 | 15/60 | 3
| HAIC CDI LTCF Survey—NEW | 10 | 45 | 5/60 | 38
| HAIC Multi-site Gram-Negative Bacilli Case Report Form (MuGSI-CRE/CRAB) | 10 | 500 | 25/60 | 2083
| HAIC Multi-site Gram-Negative Surveillance Initiative—Extended-Spectrum Beta-Lactamase-Producing Enterobacteriaceae (MuGSI-ESBL) | 10 | 1200 | 25/60 | 5000
| HAIC Invasive Methicillin-resistant Staphylococcus aureus (MRSA) | 10 | 474 | 25/60 | 1975
| HAIC Invasive Methicillin-sensitive Staphylococcus aureus (MSSA) | 10 | 754 | 25/60 | 3142
| HAIC Invasive Staphylococcus aureus Annual Laboratory Survey—NEW | 10 | 11 | 8/60 | 15
| HAIC Invasive Staphylococcus aureus Annual Surveillance Officers Survey—NEW | 10 | 1 | 10/60 | 2
| HAIC Candidemia Case Report Form | 9 | 800 | 20/60 | 2400
| HAIC Candidemia Periodic Laboratory Survey—NEW | 9 | 15 | 20/60 | 45
Total |  |  |  |  | 40,601

Jeffrey M. Zirger,
Acting Lead, Information Collection Review Office, Office of Scientific Integrity, Office of Science, Centers for Disease Control and Prevention.

[FR Doc. 2018-24969 Filed 11-14-18; 8:45 am]

BILLING CODE 4163-18-P